DEPARTMENT OF AGRICULTURE

Grain Inspection, Packers and Stockyards Administration

7 CFR Part 800

RIN 0580-AB24

Reauthorization of the United States Grain Standards Act; Extension of Comment Period; Correction

AGENCY: Grain Inspection, Packers and Stockyards Administration, USDA.

ACTION: Proposed rule; correction.

SUMMARY: This document corrects the preamble to a proposed rule; extension of comment period published by the Grain Inspection, Packers and Stockyards Administration (GIPSA) in the Federal Register of February 24, 2016, regarding (GIPSA) proposal to revise existing regulations and add new regulations under the United States Grain Standards Act (USGSA), as amended, in order to comply with amendments to the USGSA made by the Agriculture Reauthorization Act of 2015. In the SUPPLEMENTARY INFORMATION section the extension period to comment for 30 days is incorrect.

DATES: Effective March 1, 2016.

FOR FURTHER INFORMATION CONTACT: Barry Gomoll, (202) 720-8286.

Correction

In proposed rule FR Doc. 2016-03863, published on February 24, 2016, 81 FR 9122, make the following correction. On page 9122, in the SUPPLEMENTARY INFORMATION section, the last sentence is revised to read as follows:

“In response to requests from several interested groups, GIPSA has decided to extend the comment period for 60 days.”

Dated: February 24, 2016.
Larry Mitchell,
Administrator, Grain Inspection, Packers and Stockyards Administration.

[FR Doc. 2016-04458 Filed 2-29-16; 8:45 am]

BILLING CODE P